ENVIRONMENTAL PROTECTION AGENCY

[FRL-7837-3]

Science Advisory Board Staff Office; Notification of a Science Advisory Board Workshop on Nanotechnology, Biotechnology, and Information Technology

AGENCY: Environmental Protection Agency (EPA).

ACTION: Notice.

SUMMARY: The EPA Science Advisory Board (SAB) is conducting a workshop on nanotechnology, biotechnology, and information technology. The workshop is open to the public, however, seating for the public will be limited and available on a first-come basis only to those who pre-register (see Workshop Registration below).

DATES: The SAB workshop will be held on Wednesday, December 1, 2004, beginning at 8:30 a.m. and adjourning no later than 1:30 p.m., Thursday, December 2, 2004.

ADDRESSES: The SAB workshop will be held at Washington Terrace Hotel, 1515 Rhode Island Avenue, NW., Washington, DC 20005.

FOR FURTHER INFORMATION CONTACT: Any member of the public wishing further information concerning this workshop should contact Ms. Vickie Richardson, EPA Science Advisory Board Staff Office (1400F), U.S. Environmental Protection Agency, 1200 Pennsylvania Avenue, NW., Washington, DC 20460; telephone (202) 343-9978; Fax (202) 233-0643; or via e-mail at richardson.vickie@epa.gov. General information about the EPA Science Advisory Board, may be found on the SAB Web site (http://www.epa.gov/sab).

Workshop Registration—Members of the public wishing to attend must pre-register no later than 12 noon Eastern Time on Friday November 26, 2004. Please pre-register via e-mail or fax to Ms. Vickie Richardson (see above information), providing your name, title, organization, mailing address, phone and e-mail.

SUPPLEMENTARY INFORMATION: The SAB was established by 42 U.S.C. 4365 to provide independent scientific and technical advice, consultation, and recommendations to the EPA Administrator on the technical basis for Agency positions and regulations. The SAB is convening this workshop to learn more about recent developments in nanotechnology, biotechnology and information technology. The workshop is intended to educate and inform the SAB, so that it may better understand the potential applications and implications of these technologies for science and research programs at EPA. The workshop will include advisory members of the SAB, the Clean Air Scientific Advisory Committee (CASAC), the Advisory Council on Clean Air Compliance Analysis (COUNCIL), their committees, and invited EPA and outside experts in the fields of nanotechnology, biotechnology and information technology. It will begin with a series of plenary presentations. Following the plenary overviews, workshop participants will be assigned to break out groups to learn more about the specific topic areas. The Workshop will conclude with the attendees identifying a number of issues that it will consider conducting in order to assist the EPA science programs develop the necessary flexibility to deal with these issues as they become a larger part of EPA's mission over time.

Although the SAB is a Federal Advisory Committee, this workshop is an administrative meeting and, therefore, not subject to the open meeting requirements of the Federal Advisory Committee Act. However, the Workshop is open to the public. Seating for the public will be limited and available on a first come basis only to those who pre-register (see Workshop Registration above).

A draft Workshop agenda is posted on the SAB Web site under “Recent Additions” (www.epa.gov/sab/whatsnew.htm). An updated Agenda will be posted prior to the Workshop. Workshop Proceedings will be available at a date to be announced on the SAB Web site.

Meeting Access: Individuals requiring special accommodation at this workshop should contact Ms. Richardson at least five business days in advance so that appropriate arrangements can be made.

Dated: November 4, 2004.
Vanessa T. Vu,
Director, EPA Science Advisory Board Staff Office.

[FR Doc. 04-25223 Filed 11-10-04; 8:45 am]

BILLING CODE 6560-50-P